NATIONAL AERONAUTICS AND SPACE ADMINISTRATION

[Notice (03-063)]

Notice of Prospective Patent License

AGENCY: National Aeronautics and Space Administration.

ACTION: Notice of prospective patent license.

SUMMARY: NASA hereby gives notice that Phoenix Systems International, Inc. of McDonald, OH, has applied for an exclusive license to practice the invention described and claimed in NASA Case No. KSC-12518 entitled “Hydrogen Peroxide Catalytic Decomposition,” which is assigned to the United States of America as represented by the Administrator of the National Aeronautics and Space Administration. Written objections to the prospective grant of an exclusive license to Phoenix Systems International, Inc. should be sent to Assistant Chief Counsel/Patent Counsel, NASA, Mail Code: CC-A, Office of the Chief Counsel, John F. Kennedy Space Center, Kennedy Space Center, FL 32899.

DATES: Responses to this notice must be received within June 30, 2003.

FOR FURTHER INFORMATION CONTACT: Randall M. Heald, Patent Counsel/Assistant Chief Counsel, NASA, Office of the Chief Counsel, John F. Kennedy Space Center, Mail Code: CC-A, Kennedy Space Center, FL 32899, telephone (321) 867-7214.

Dated: June 6, 2003.
Robert M. Stephens,
Deputy General Counsel.

[FR Doc. 03-14937 Filed 6-12-03; 8:45 am]

BILLING CODE 7510-01-P